NATIONAL CREDIT UNION ADMINISTRATION

Sunshine Act; Notice of Agency Meeting

TIME AND DATE: 10 a.m., Thursday, June 17, 2010.

PLACE: Board Room, 7th Floor, Room 7047, 1775 Duke Street, Alexandria, VA 22314-3428.

STATUS: Open.

MATTERS TO BE CONSIDERED: 1. Final Rule—Part 701 of NCUA's Rules and Regulations, Interpretive Ruling and Policy Statement (IRPS) 10-1, NCUA's Chartering and Field of Membership Policies.

2. Delegations of Authority—Chartering.

3. Proposed Rule—Part 741 of NCUA's Rules and Regulations, Requirements for Insurance, Interest Rate Risk Policy and Program.

4. Insurance Fund Report.

5. Temporary Corporate Credit Union Stabilization Fund Accounting Standard.

6. Temporary Corporate Credit Union Stabilization Fund Payment of Insured Shares.

7. Temporary Corporate Credit Union Stabilization Fund Assessment.

RECESS: 11:30 a.m.

TIME AND DATE: 11:45 a.m., Thursday, June 17, 2010.

PLACE: Board Room, 7th Floor, Room 7047, 1775 Duke Street, Alexandria, VA 22314-3428.

STATUS: Closed.

MATTERS TO BE CONSIDERED: 1. Consideration of Supervisory Activities (2). Closed pursuant to some or all of the following exemptions: (8), (9)(A)(ii) and 9(B).

FOR FURTHER INFORMATION CONTACT: Mary Rupp, Secretary of the Board, Telephone: 703-518-6304.

Mary Rupp,
Board Secretary.

[FR Doc. 2010-14402 Filed 6-10-10; 4:15 pm]

BILLING CODE P